DEPARTMENT OF TRANSPORTATION

Federal Aviation Administration

Notice of Intent To Rule on Application 05-01-C-00-EAR To Impose and Use the Revenue From a Passenger Facility Charge (PFC) at Kearney Municipal Airport, Kearney, NE

AGENCY: Federal Aviation Administration (FAA), DOT.

ACTION: Notice of intent to rule on application.

SUMMARY: The FAA proposes to rule and invites public comment on the application to impose and use the revenue from a PFC at Kearney Municipal Airport under the provisions of 49 U.S.C. 40117 and Part 158 of the Federal Aviation Regulations (14 CFR Part 158).

DATES: Comments must be received on or before July 21, 2005.

ADDRESSES: Comments on this application may be mailed or delivered in triplicate to the FAA at the following address: 901 Locust, Kansas City, MO 64106.

In addition, one copy of any comments submitted to the FAA must be mailed or delivered to Colin English, Airport Manager, Kearney Municipal Airport, 5139 Airport Road, Kearney, NE 69967.

Air carriers and foreign air carriers may submit copies of written comments previously provided to the City of Kearney under section 158.23 of Part 158.

FOR FURTHER INFORMATION CONTACT: Lorna K. Sandridge, PFC Program Manager, 901 Locust, Kansas City, MO 64106, (816) 329-2641. The application may be reviewed in person at this same location.

SUPPLEMENTARY INFORMATION: The FAA proposes to rule and invites public comment on the application to impose and use the revenue from a PFC at Kearney Municipal Airport under the provisions of 49 U.S.C. 40117 and Part 158 of the Federal Aviation Regulations (14 CFR Part 158).

On June 13, 2005, the FAA determined that the application to impose and use the revenue from a PFC submitted by the City of Kearney was substantially complete within the requirements of section 158.25 of Part 158. The FAA will approve or disapprove the application, in whole or in part, no later than August 27, 2005.

The following is a brief overview of the application.

Proposed charge effective date: March 1, 2005.

Proposed charge expiration date: March 1, 2010.

Level of the proposed PFC: $4.00.

Total estimated PFC revenue: $150,000.

Brief description of proposed project(s): Study, design and build terminal expansion or replacement.

Any person may inspect the application in person at the FAA office listed above under FOR FURTHER INFORMATION CONTACT and at the FAA regional Airports office located at: 901 Locust, Kansas City, MO 64106.

In addition, any person may, upon request, inspect the application, notice and other documents germane to the application in person at the Kearney Municipal Airport.

Issued in Kansas City, Missouri on June 13, 2005.
George A. Hendon,
Manager, Airports Division, Central Region.

[FR Doc. 05-12143 Filed 6-20-05; 8:45 am]

BILLING CODE 4910-13-M